DEPARTMENT OF THE INTERIOR

Bureau of Land Management

[LLNVC00000.L71220000.FR0000.LVTFF1503840.15X; NVN093739; MO# 4500078799]

Notice of Realty Action; Segregation of Public Land Located in Lyon County and Mineral County, Nevada

AGENCY: Bureau of Land Management, Interior.

ACTION: Notice.

SUMMARY: This notice serves to segregate the identified public lands located in Lyon County and Mineral County, Nevada for up to two years from appropriation pursuant to the public land laws, including location pursuant to the General Mining Act, subject to valid existing rights. The purpose of such segregation is to promote the orderly administration of the public lands identified in section 3009(a) of the National Defense Authorization Act, Public Law 113-291 (December 19, 2014).

DATES: Interested parties may submit written comments regarding the segregation to the Bureau of Land Management (BLM) on or before August 27, 2015.

ADDRESSES: Mail written comments to the BLM District Manager, Carson City District Office, 5665 Morgan Mill Road, Carson City, NV 89701.

FOR FURTHER INFORMATION CONTACT: Perry Wickham, Realty Specialist, BLM Sierra Front Field Office at email: pwickham@blm.gov or phone: 775-885-6017. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following described public land in Lyon County and Mineral County, Nevada, has been identified for conveyance to the city of Yerington (City) under the authority of section 3009 of the National Defense Authorization Act, Public Law 113-291, titled Land Conveyance to Yerington, Nevada.

Mount Diablo Meridian, Nevada.

Those public lands, located in Lyon County and Mineral County, Nevada, are identified on the map as “City of Yerington Sustainable Development Conveyance Lands.”

The area described contains approximately 10,359 acres.

The conveyance of the public land will be subject to valid existing rights and encumbrances of record, including but not limited to, rights-of-way for roads and public utilities.

On July 13, 2015, the above described land will be segregated from appropriation under the public land laws, including the mining laws, for up to two years from the date of the publication of the notice, subject to valid existing rights, but would remain subject to the sale provisions of the Federal Land Policy and Management Act. Until completion of the sale, the BLM is no longer accepting land use applications affecting the identified public land, except applications for the amendment of previously-filed right-of-way applications or existing authorizations to increase the term of the grants in accordance with 43 CFR 2807.15 and 2886.15. The segregative effect will terminate upon issuance of a patent, publication in the Federal Register of a termination of the segregation, or on Thursday, July 13, 2017, whichever occurs first, unless extended by the BLM State Director in accordance with 43 CFR 2711.1-2(d) prior to the termination date.

Public Comments: For a period until August 27, 2015 interested parties and the general public may submit comments concerning segregation of lands to be conveyed to the City, including notification of any encumbrances or other claims relating to the conveyed lands, to District Manager, Carson City District Office, at the above address. Comments transmitted via email will not be accepted. Comments will be available for public review at the BLM Carson City District Office, during regular business hours, except holidays.

Before including your address, phone number, email address, or other personal identifying information in your comment, be advised that your entire comment-including your personal identifying information-may be made publicly available at any time. While you can ask us in your comment to withhold from public review your personal identifying information, we cannot guarantee that we will be able to do so.

Authority: 43 CFR 2711.1-2.

Ralph Thomas,
District Manager, Carson City District Office.

[FR Doc. 2015-17044 Filed 7-10-15; 8:45 am]

BILLING CODE 4310-HC-P